ENVIRONMENTAL PROTECTION AGENCY

National Advisory Council for Environmental Policy and Technology

[FRL-8445-5]

AGENCY: Environmental Protection Agency (EPA).

ACTION: Notice of Meeting.

SUMMARY: Under the Federal Advisory Committee Act, Pub. L. 92463, EPA gives notice of a meeting of the National Advisory Council for Environmental Policy and Technology (NACEPT). NACEPT provides advice to the EPA Administrator on a broad range of environmental policy, technology, and management issues. The Council is a panel of individuals who represent diverse interests from academia, industry, non-governmental organizations, and local, state, and tribal governments. The purpose of this meeting is to discuss the NACEPT agenda, including sustainable water infrastructure, environmental stewardship, cooperative conservation, energy and the environment, and environmental indicators. A copy of the agenda for the meeting will be posted at http://www.epa.gov/ocem/nacept/cal-nacept.htm.

DATES: NACEPT will hold a two day open meeting on Thursday, August 9, 2007, from 8:30 a.m. to 1 p.m. and Friday, August 10, 2007 from 12 p.m. to 2 p.m.

ADDRESSES: The meeting will be held at the Boston Park Plaza Hotel, 50 Park Plaza at Arlington Street, Boston, MA, 02116. The meeting is open to the public, with limited seating on a first-come, first-served basis.

FOR FURTHER INFORMATION CONTACT: Sonia Altieri, Designated Federal Officer, altieri.sonia@epa.gov, (202) 564-0243, U.S. EPA, Office of Cooperative Environmental Management (1601M), 1200 Pennsylvania Avenue, NW., Washington, DC 24060.

SUPPLEMENTARY INFORMATION: Requests to make oral comments or to provide written comments to the Council should be sent to Sonia Altieri, Designated Federal Officer, at the contact information above. The public is welcome to attend all portions of the meeting.

Meeting Access: For information on access or services for individuals with disabilities, please contact Sonia Altieri at 202-564-0243 or altieri.sonia@epa.gov. To request accommodation of a disability, please contact Sonia Altieri, preferably at least 10 days prior to the meeting, to give EPA as much time as possible to process your request.

Dated: July 13, 2007.
Sonia Altieri,
Designated Federal Officer.

[FR Doc. 07-3634 Filed 7-24-07; 8:45 am]

BILLING CODE 6560-50-M